SMALL BUSINESS ADMINISTRATION

[Declaration of Disaster #3311]

State of Mississippi (and Contiguous Counties in Alabama)

Lauderdale County and the contiguous counties of Clarke, Jasper, Kemper, Neshoba, and Newton in the State of Mississippi, and Choctaw and Sumter Counties in the State of Alabama constitute a disaster area due to damages caused by severe storms, damaging winds, and tornadoes that occurred on December 16, 2000. Applications for loans for physical damage as a result of this disaster may be filed until the close of business on February 23, 2001 and for economic injury until the close of business on September 24, 2001 at the address listed below or other locally announced locations: U.S. Small Business Administration, Disaster Area 2 Office, One Baltimore Place, Suite 300, Atlanta, GA 30308.

The interest rates are:

| Percent
For Physical Damage:
Homeowners With Credit Available Elsewhere | 7.000
Homeowners Without Credit Available Elsewhere | 3.500
Businesses With Credit Available Elsewhere | 8.000
Businesses and Non-Profit Organizations Without Credit Available Elsewhere | 4.000
Others (Including Non-Profit Organizations) With Credit Available Elsewhere | 7.000
For Economic Injury:
Businesses and Small Agricultural Cooperatives Without Credit Available Elsewhere | 4.000

The numbers assigned to this disaster for physical damage are 331111 for Mississippi and 331211 for Alabama. For economic injury, the numbers are 9K0600 for Mississippi and 9K0700 for Alabama.

(Catalog of Federal Domestic Assistance Program Nos. 59002 and 59008)

Dated: December 22, 2000.
Aida Alvarez,
Administrator.

[FR Doc. 01-905 Filed 1-10-01; 8:45 am]

BILLING CODE 8025-01-P